Proclamation 7268 of January 14, 2000

Martin Luther King, Jr., Federal Holiday, 2000

By the President of the United States of America

A Proclamation

Just this month, thousands of Americans gathered at the Lincoln Memorial to welcome a new year, a new century, and a new millennium. There—where 37 years ago Martin Luther King, Jr., so eloquently voiced his dream for America's future—we pledged not only to keep Dr. King's dream alive, but also to bring it to reality in the 21st century.

We are living in a time of unprecedented peace and prosperity for our Nation, where the struggles of the valiant and visionary men and women who came before us have borne fruit with the guarantee of civil rights at home and the triumph of freedom in nations across the globe. But we cannot afford to become complacent. As Dr. King so wisely observed, “We have learned to fly the air like birds and swim the sea like fish, but we have not learned the simple art of living together as brothers. Our abundance has brought us neither peace of mind nor serenity of spirit.”

We must seize this rare moment in our Nation's history to build a society in which we accept our differences and honor our common humanity. We must unite against the forces of hatred, fear, and ignorance that seek to divide us. We must use our economic success and our technological prowess to widen the circle of opportunity, to eliminate poverty, and to give all our children the education, values, and encouragement they need to reach their full potential.

Each year since 1994, when I signed into law the King Holiday and Service Act, Americans have marked this observance by devoting the day to service projects in their communities. By renovating schools, cleaning up neighborhoods, tutoring children, donating blood, organizing food drives, or reaching out in some other way to those in need, our citizens can work together to make this a day on, not a day off, and to make their own contributions to Dr. King's legacy of service.

Martin Luther King, Jr., was not content to rest on past successes or to compromise his convictions. If he were with us now to mark his 71st birthday, he would exhort us not to grow weary in doing good but to reach out to one another in the spirit of service and forge a future in which all Americans are proud of our diversity and united in our reverence for freedom, justice, and equality.

NOW, THEREFORE, I, WILLIAM J. CLINTON, President of the United States of America, by virtue of the authority vested in me by the Constitution and laws of the United States, do hereby proclaim Monday, January 17, 2000, as the Martin Luther King, Jr., Federal Holiday. I call upon all Americans to observe this occasion with appropriate programs, ceremonies, and activities in honor of Dr. King's life and achievements and in response to his call to service.

IN WITNESS WHEREOF, I have hereunto set my hand this fourteenth day of January, in the year of our Lord two thousand, and of the Independence of the United States of America the two hundred and twenty-fourth.

wj

[FR Doc. 00-1346

Filed 1-18-00; 8:45 am]

Billing code 3195-01-P